NATIONAL FOUNDATION ON THE ARTS AND THE HUMANITIES

Institute of Museum and Library Services

Privacy Act of 1974; System of Records

AGENCY: Institute of Museum and Library Services (IMLS).

ACTION: Rescindment of a System of Records Notice.

SUMMARY: In accordance with the Privacy Act of 1974, as amended, the Institute of Museum and Library Services (IMLS) provides notice that it is rescinding IMLS-2, “IMLS Reviewers—Paper Files,” from its inventory of record systems. The System of Records Notice was intended to complement IMLS-1 with information well-suited for maintenance in hard copy form, including information about potential and actual reviewers such as resumes, profiles, and contracts concerning participation on review panels. The collection had been used for the general administration of the grant review and award process, as well as identification of reviewers and their activities in this capacity.

IMLS is now rescinding this System of Records Notice because IMLS no longer collects or uses reviewer information in hard copy form. All remaining records from IMLS-2 maintained by IMLS will be expunged in accordance with applicable record retention or disposition schedule(s) approved by the National Archives and Records Administration.

DATES: The notice of rescindment is effective upon date of publication.

ADDRESSES: Benjamin Sweezy, Senior Agency Official for Privacy, Institute of Museum and Library Services, 955 L'Enfant Plaza North SW, 4th Floor, Washington, DC 20024. Email: bsweezy@imls.gov. Telephone: (202) 653-4657.

FOR FURTHER INFORMATION CONTACT: Nancy E. Weiss, General Counsel, Institute of Museum and Library Services, 955 L'Enfant Plaza North SW, 4th Floor, Washington, DC 20024. Email: nweiss@imls.gov. Telephone: (202) 653-4657. Benjamin Sweezy, Chief Information Officer, Institute of Museum and Library Services, 955 L'Enfant Plaza North SW, 4th Floor, Washington, DC 20024. Email: bsweezy@imls.gov. Telephone: (202) 653-4657.

SYSTEM NAME AND NUMBER:

IMLS-2: IMLS Reviewers—Paper Files.

HISTORY:

78 FR 73890.

Dated: January 30, 2019.
Danette Hensley,
Staff Assistant, Office of the General Counsel.

[FR Doc. 2019-00946 Filed 2-4-19; 8:45 am]

BILLING CODE 7036-01-P